COMMODITY FUTURES TRADING COMMISSION

Sunshine Act Meeting

Agency Holding the Meeting: Commodity Futures Trading Commission (Commission).

Date and Time: Tuesday, September 18, 2007, commencing at 9 a.m.

Place: 1155 21st Street, NW., Washington, DC, Lobby Level Hearing Room (Room 1000).

Status: Open.

Matters to be Considered: Public hearing to examine the oversight of trading on regulated futures exchanges and Exempt Commercial Markets (ECMs).

Contact Persons and Addresses: Requests to appear and supporting materials should be mailed to the Commodity Futures Trading Commission, Three Lafayette Center, 1155 21st Street, NW., Washington, DC 20581, attention Office of the Secretariat; transmitted by facsimile at 202-418-5521; or transmitted electronically to [secretary@cftc.gov]. Reference should be made to “oversight of trading on regulated futures exchanges and Exempt Commercial Markets.” For substantive questions regarding requests to appear and supporting materials, please contact David P. Van Wagner, Chief Counsel, (202) 418-5481; or Duane Andresen, Special Counsel, (202) 418-5492, Division of Market Oversight.

SUPPLEMENTARY INFORMATION: The Commission is undertaking a review of issues related to the oversight of trading on regulated futures exchanges and Exempt Commercial Markets (ECMs). In furtherance of that review, the Commission hereby announces that it will hold a public hearing to commence on Tuesday, September 18, 2007, at 9 a.m., at the Commission's headquarters in Washington, DC.

The Commission has previously announced that the hearing will generally focus on a number of issues, including:

• The tiered regulatory approach of the Commodity Futures Modernization Act of 2000 (CFMA) and whether this risk-based model is beneficial;

• The similarities and differences between ECMs and regulated exchanges;

• The associated regulatory risks of each market category;

• The types of regulatory or legislative changes that might be appropriate to address such identified risks; and

• The impact that regulatory or legislative changes might have on the U.S. futures industry and the global competitiveness of the U.S. financial industry in general. (CFTC Release No. 5368-07, August 2, 2007.)

A transcript of the hearing will be made and entered into the Commission's public comment files, which will remain open for the receipt of written comments until September 24, 2007.

Issued in Washington, DC, on September 4, 2007, by the Commission.
David Stawick,
Secretary of the Commission.

[FR Doc. 07-4379 Filed 9-4-07; 12:33 pm]

BILLING CODE 6351-01-P